DEPARTMENT OF AGRICULTURE

Forest Service

Roadless Area Protection; Interim Direction

AGENCY: Forest Service, USDA.

ACTION: Notice; request for comment.

SUMMARY: The Forest Service has issued two Interim Directives to its workforce reserving to the Chief, with some exceptions, authority to approve timber harvest and road construction and reconstruction in roadless areas. The intended effect is to stabilize roadless management in light of pending litigation. Public comment is invited and will be considered in developing any final policy.

DATES: Interim Directives No. 2400-2001-3 and 7710-2001-2 were issued July 27, 2001. Comments must be received in writing by October 22, 2001.

ADDRESSES: Written comments concerning these Interim Directives should be sent to Content Analysis Team, Forest Service, USDA, Attention: Roadless Interim Directives, P.O. Box 221150, Salt Lake City, UT, 84122; via email to roadless_id@fs.fed.us; or via facsimile to 801-296-4088, Attention: Roadless Interim Directives.

FOR FURTHER INFORMATION CONTACT: Jody Sutton, Program Coordinator, Content Analysis Team, at telephone number (801) 527-1023.

SUPPLEMENTARY INFORMATION:

Background

On January 12, 2001, the Department of Agriculture published a final rule entitled 36 CFR part 294, Special Areas; Roadless Area Conservation (66 FR 3244). Originally scheduled to take effect on March 12, the Secretary of Agriculture extended the effective date until May 12, 2001, to permit the new Administration to review the rule (66 FR 8899; February 5, 2001).

Over the same period, eight lawsuits, involving seven states in six judicial districts and four federal circuits were filed against the January 12, 2001, rule. On May 10, 2001, the Idaho District Court granted the preliminary injunction requested in Kootenai Tribe of Idaho v. Veneman and State of Idaho v. U.S. Forest Service. The court enjoined the Forest Service from implementing “all aspects of the Roadless Area Conservation Rule” as well as a section of the November 2000, forest planning rule that addresses the inventory and evaluation of roadless areas during the forest plan revision process. The Idaho District Court's decision to grant a preliminary injunction has been appealed and is now pending before the Ninth Circuit Court of Appeals.

Need for Interim Direction

In the face of the legal controversy and uncertainty, and with the endorsement of the Secretary, on June 7, 2001, I issued a memorandum to agency top officials concerning interim protection of inventoried roadless areas. I emphasized that “the Forest Service is committed to protecting and managing roadless areas as an important component of the National Forest System” and that “the best way to achieve this objective is to ensure that we protect and sustain roadless values until they can be appropriately considered through forest planning.” As part of that memorandum, I indicated I would be issuing interim direction regarding timber harvest and road construction in inventoried roadless areas until a forest plan amendment or revision considers the long-term protection and management of unroaded portions of inventoried roadless areas. I also indicated that the interim directives would provide for exemptions along the lines of those in the roadless rule.

Subsequently, I have issued two Interim Directives addressing approval of activities in roadless areas—one to Forest Service Manual (FSM) 2400 Chapter Zero Code, which covers timber harvest decisions, and another to FSM Chapter 7710, which governs decisions on road construction and reconstruction in roadless areas.

Content of the Interim Directives

The two Interim Directives issued to implement the policy decisions contained in the June 7 memorandum are integrated into pre-existing direction on timber sales and road management in inventoried roadless areas. They assign responsibilities for actions related to roadless areas. The Interim Directives reserve to the Chief the authority to approve, with some exceptions, proposed road construction, reconstruction or timber harvest projects in inventoried roadless areas until revision of a land and resource management plan or the adoption of a plan amendment that has considered the protection or other management of inventoried roadless areas as defined in FSM 7712.16a. The Interim Directives also assign to Regional Foresters the responsibility to review and determine if proposed road construction, road reconstruction, or timber harvest projects in inventoried roadless areas that are not within the Regional Forester's decision authority should be recommended and forwarded to the Chief for approval.

Conclusion

The Forest Service is committed to providing adequate opportunities for the public to comment on administrative directives that are of substantial public interest or controversy, as provided in the regulations at 36 CFR part 216. Because it was important to provide Forest Service units with interim direction to ensure consistent management of roadless areas, the agency issued these Interim Directives and made them effective immediately. However, pursuant to 36 CFR 216.7, the Forest Service is now also requesting public comment on these Interim Directives. All comments will be reviewed and considered in determining any final policy. A copy of each ID appears at the end of this notice.

Dated: August 9, 2001.
Dale N. Bosworth,
Chief.

Forest Service Manual Interim Directives

Note: The Forest Service organizes its directive system by alphanumeric codes and subject headings. Only those sections of the FSM that are the subject of this notice are set forth here. Those who wish to see the entire chapter to which the Interim Directives apply may do so at http://www.fs.fed.us/im/directives.

FSM 2400—Timber Management

Chapter—Zero Code

Interim Directive No.: 2400-2001-3.

Effective Date: July 27, 2001.

Duration: This interim directive expires on January 27, 2003.

Approved: Dale N. Bosworth, Chief.

Date Approved: 7/19/2001.

Posting Instructions: Interim directives are numbered consecutively by title and calendar year. Post by document at the end of the chapter. Retain this transmittal as the first page(s) of this document. The last interim directive was 2450-2001-2 to FSM 2450.

New Document | id_2400-2001-3 | 3 Pages.
Superseded Document(s) (Interim Directive Number and Effective Date) | None.

Digest: This Interim Directive (ID) implements the Chief's 1230/1920 letter of June 7, 2001, regarding Interim Protection of Roadless Areas. See the corollary roadless area Interim Directive being simultaneously issued to FSM 7710.

2404.11—Adds new paragraph 4 that reserves to the Chief the authority to approve certain proposed timber harvests in inventoried roadless areas as defined in FSM 7712.16a, until revision of a land and resource management plan.

2404.15—Adds a new paragraph 13 that requires Regional Forester review and agreement on the purpose and need for timber harvests in roadless areas and assigns to Regional Foresters the responsibility to screen proposed timber harvests in inventoried roadless areas to determine those that should be recommended to the Chief for approval.

FSM 2400—Timber Management

Chapter—Zero Code

2404.11—Chief

4. Reserves the authority to approve or disapprove proposed timber harvest in inventoried roadless areas (FSM 7712.16a), except for those listed in section 2404.15, paragraph 13. This reservation applies to all decisions to approve or disapprove harvest in inventoried roadless areas made on or after the effective date of this Interim Directive. This reservation applies until revision of a land and resource management plan or adoption of a plan amendment that has considered the protection and management of inventoried roadless areas pursuant to FSM 1920. If a Record of Decision for a Forest Plan revision has been issued as of the date of this Interim Directive, then the provision for Chief's review does not apply. By official memorandum, the Chief may designate, on a case-by-case basis, an Associate Chief or Deputy Chief to serve as the Responsible Official.

2404.15—Regional Forester

13. Prior to the publication of a Notice of Intent to prepare an environmental impact statement that considers timber harvest in an inventoried roadless area (FSM 7712.16a), review and agree to the purpose and need statements (FSH 1909.15, Chapter 20). It is also the responsibility of the Regional Forester to review and recommend to the Chief the final environmental impact statement and record of decision for any timber harvest projects in inventoried roadless areas, except those described in the following paragraphs (a) through (d).

a. The timber is generally small-diameter material and the removal of timber is needed for one of the following purposes:

(1) To improve habitat for listed or proposed threatened and endangered species, or for sensitive species (FSM 2670), or

(2) To maintain or restore the desirable characteristics of ecosystem composition and structure, for example, to reduce the risk of uncharacteristic wildfire effects.

b. The cutting, sale, or removal of timber is incidental to the implementation of a management activity and not otherwise prohibited under the land and resource management plan.

c. The cutting, sale, or removal of timber is needed and appropriate for personal or administrative use as provided for in 36 CFR part 223.

d. The harvest is in a portion of an inventoried roadless area where construction of a classified road and subsequent timber harvest have previously taken place, and the roadless area characteristics have been substantially altered by those activities.

The delegation of authority to approve or disapprove the projects described in preceding paragraphs a through d remain unchanged by this Interim Directive.

FSM 7700—Transportation System

Chapter 7710—Transportation Atlas, Records, and Analysis

Interim Directive No.: 7710-2001-2.

Effective Date: July 27, 2001.

Duration: This interim directive expires on January 27, 2003.

Approved: Dale N. Bosworth, Chief.

Date Approved: 07/23/2001.

Posting Instructions: Interim directives are numbered consecutively by title and calendar year. Post by document at the end of the chapter. Retain this transmittal as the first page(s) of this document. The last interim directive was 7710-2001-1 to FSM 7710.

New Document | id_7710-2001-2 | 4 Pages.
Superseded Document(s) (Interim Directive Number and Effective Date) | None.

Digest: This Interim Directive (ID) implements the Chief's 1230/1920 letter of June 7, 2001, regarding Delegation of Authority/Interim Protection of Roadless Areas. See corollary roadless area Interim Directive being simultaneously issued to FSM 2400. Interim Directive No. 7710-2001-1, effective May 31, 2001, remains in effect.

7710.4—Adds a new paragraph that reserves to the Chief the authority to approve certain proposed road construction or reconstruction projects in inventoried roadless areas until revision of a land and resource management plan or the adoption of a plan amendment that has considered the protection or other management of inventoried roadless areas as defined in FSM 7712.16a. Provides that the Chief may designate other Washington Office officials to serve as Responsible Official for decisions that are to be made at the Chief's level.

7710.42—Revises paragraph 3 to be consistent with the Chief's reservation of authority. In new paragraph 3a, the Regional Forester's authority to serve as Responsible Official on a road construction/reconstruction project in contiguous unroaded areas is retained. In a new paragraph 3.b, the Regional Forester's authority as Responsible Official is limited to those environmental impact statements (EIS's) for road construction or reconstruction in inventoried roadless areas authorized by FSM 7712.16b, paragraph 2, and FSM 7712.16d.

Adds a new paragraph 7 assigning to Regional Foresters the responsibility to review and determine if proposed road construction or reconstruction projects in inventoried roadless areas, that are not within the Regional Forester's decision authority should be forwarded to the Chief for approval.

Also adds a new paragraph 8 assigning the Regional Forester the responsibility of reviewing and agreeing to the purpose and need statements for any Notice of Intent to prepare a draft EIS that considers road construction or reconstruction in inventoried roadless areas.

7712.16a—Removes an incorrect citation to FSM 7705 from the definition of inventoried roadless areas.

7712.16b—Revises paragraph 1a through 1c to add a reference to FSM 7712.16d in the introductory phrase and to add references to the Responsible Official and the Chief to be consistent with changes in delegated authority in this ID.

Adds a new paragraph 4 directing that road construction or reconstruction projects which meet compelling needs other than those specifically identified and described as examples in FSM 7712.16b, paragraph 2, may only be approved by the Chief.

FSM 7700—Transportation System

Chapter 7710—Transportation Atlas, Records, and Analysis

7710.4—Responsibility

The Chief reserves the authority to approve or disapprove road construction or reconstruction in inventoried roadless areas, except those projects exempted under FSM 7712.16d and those projects which meet one of the compelling needs specifically described in FSM 7712.16b, paragraph 2. This reservation of authority remains in effect as provided in FSM 7712.16c. When an inventoried roadless area road construction or reconstruction decision falls under the Chief's authority, the Chief, for purposes of administrative efficiency and timeliness, may designate, on a case-by-case basis by official memorandum, an Associate Chief, Deputy Chief, or an Associate Deputy Chief to serve as the Responsible Official.

7710.42—Regional Forester

(It is the responsibility of the Regional Forester to:)

3. Serve as the Responsible Official for the following:

a. any environmental impact statement and decision on a road construction or reconstruction project in a contiguous unroaded area as authorized in FSM 7712.16b; and

b. any environmental impact statement and decision on a road construction or reconstruction project in an inventoried roadless area authorized by FSM 7712.16b, paragraph 2, and FSM 7712.16d.

7. Review and determine whether to recommend to the Chief the final environmental impact statement and accompanying decision document for any road construction or reconstruction project in inventoried roadless areas.

8. Prior to the issuance of a Notice of Intent to prepare a draft environmental impact statement that considers road construction or reconstruction in an inventoried roadless area (FSM 1920.5), review and agree to the purpose and need statements.

7712.16a—Areas Subject to Interim Requirements

1. Inventoried roadless areas are identified in a set of inventoried roadless area maps, contained in Forest Service Roadless Area Conservation, Final Environmental Impact Statement, Volume 2, dated November 2000, which are held at the National headquarters office of the Forest Service, or any update or revision of those maps.

7712.16b—Interim Requirements

1. Except as provided for in FSM 7712.16c and 7712.16d, road construction or reconstruction in inventoried roadless and contiguous unroaded areas (FSM 7712.16a) may be authorized only if:

a. The Responsible Official determines for the purposes of this section, that there is a compelling need for the road;

b. A science-based roads analysis is conducted pursuant to FSM 7712.1; and

c. An environmental impact statement for the proposed action is prepared and approved by the Regional Forester, or the Chief. Road construction and reconstruction in inventoried roadless and contiguous unroaded areas constitute a significant environmental effect, as defined in the Council on Environmental Quality regulations (40 CFR part 1508) and the Forest Service Environmental Procedures Handbook (FSH 1909.15, sec. 05), and, therefore, requires the preparation of an environmental impact statement (FSH 1909.15, sec. 20.6). The environmental impact analysis provides the basis for the Responsible Official's decision on whether to construct or reconstruct a road in inventoried roadless or contiguous unroaded areas.

4. Road construction or reconstruction projects which meet compelling needs other than those specifically identified and described as examples in FSM 7712.16b, paragraph 2, must be submitted to the Chief for review and approval.

[FR Doc. 01-21185 Filed 8-21-01; 8:45 am]

BILLING CODE 3410-11-P